DEPARTMENT OF JUSTICE

Drug Enforcement Administration

Importer of Controlled Substances; Notice of Application; Correction

By Notice dated December 21, 2004, and published in the Federal Register on January 4, 2005, (70 FR 390), the listing of controlled substances N-Ethylamphetamine (1475), 2,5-Dimethoxyamphetamine (7396), 4-Methoxyamphetamine (7411), and Difenoxin (9168), were inadvertently added for Chattem Chemicals, Inc., 3801 St. Elmo Avenue, Building 18, Chattanooga, Tennessee 37409. The Notice of Application should be corrected by deleting N-Ethylamphetamine (1475), 2,5-Dimethoxyamphetamine (7396), 4-Methoxyamphetamine (7411), and Difenoxin (9168).

Dated: March 29, 2005.
William J. Walker,
Deputy Assistant Administrator, Office of Diversion Control, Drug Enforcement Administration.

[FR Doc. 05-6788 Filed 4-5-05; 8:45 am]

BILLING CODE 4410-09-P